DEPARTMENT OF DEFENSE

Department of the Air Force

[ARY-230418B-JA]

Notice of Intent To Grant a Joint Ownership Agreement With an Exclusive Patent License

AGENCY: Department of the Air Force, Department of Defense.

ACTION: Notice of intent.

SUMMARY: Pursuant to the Bayh-Dole Act and implementing regulations, the Department of the Air Force hereby gives notice of its intent to grant a joint ownership agreement with an Exclusive Patent License to Licensee, Battelle Memorial Institute having a place of business at 505 King Avenue, Columbus, Ohio 43201.

DATES: Written objections must be filed no later than fifteen (15) calendar days after the date of publication of this Notice.

ADDRESSES: Submit written objections to Dr. Griffin Romigh, Lead, Office of Research and Technology Applications (ORTA), AFRL/RY—Sensors Directorate, Bldg. 600, 2nd Floor, 2241 Avionics Circle, Wright-Patterson AFB, OH 45433; Phone (937) 713-3494; or Email: griffin.romigh@us.af.mil. Include Docket No. ARY-230418B-JA in the subject line of the message.

FOR FURTHER INFORMATION CONTACT: Dr. Griffin Romigh, Lead, Office of Research and Technology Applications (ORTA), AFRL/RY—Sensors Directorate, Bldg. 600, 2nd Floor, 2241 Avionics Circle, Wright-Patterson AFB, OH 45433; Phone (937) 713-3494; or Email: griffin.romigh@us.af.mil.

Abstract of patent application(s): An integrated circuit (IC) validation method consisting of means to acquire an image of an IC under test by scanning an optical beam over the IC under test to optically inject carriers into the IC under test and measuring an output signal generated by the IC under test in response to the optical carrier injection (e.g., Two-photon Optical Beam Induced Current—TOBIC); computing a comparison image between the image of the IC under test and a reference image; and identifying suspect regions of the IC under test based on the computed difference image.

Intellectual property: U.S. Application Serial No. 63/343,204, filed on May 18, 2022 entitled “Non-Destructive Verification of Integrated Circuits”.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Mia Day,
Acting Air Force Federal Register Liaison Officer.

[FR Doc. 2023-19596 Filed 9-11-23; 8:45 am]

BILLING CODE 5001-10-P